DEPARTMENT OF ENERGY

Federal Energy Regulatory Commission

[Project No. 7590-015]

City of Nashua, New Hampshire; Notice of Effectiveness of Withdrawal of Exemption Amendment Application

On June 1, 2021, the City of Nashua, New Hampshire (City of Nashua) filed an application to amend the exemption from licensing for the Jackson Mills Project No. 7590. On September 14, 2021, the City of Nashua notified the Commission that it was withdrawing its application.

No motion in opposition to the notice of withdrawal has been filed, and the Commission has taken no action to disallow the withdrawal. Pursuant to Rule 216(b) of the Commission's Rules of Practice and Procedure,¹ the withdrawal of the amendment application became effective on September 29, 2021, and this proceeding is hereby terminated.

¹ 18 CFR 385.216(b) (2020).

Dated: October 4, 2021.
Kimberly D. Bose,
Secretary.

[FR Doc. 2021-22065 Filed 10-7-21; 8:45 am]

BILLING CODE 6717-01-P